FEDERAL COMMUNICATIONS COMMISSION

[Report No. 2569]

Petitions for Reconsideration of Action in Rulemaking Proceedings

August 13, 2002.

Petitions for Reconsideration have been filed in the Commission's rulemaking proceedings listed in this Public Notice and published pursuant to 47 CFR 1.429(e). The full text of this document is available for viewing and copying in Room CY-A257, 445 12th Street, SW., Washington, DC or may be purchased from the Commission's copy contractor, Qualex International (202) 863-2893. Oppositions to these petitions must be filed by September 5, 2002. See § 1.4(b)(1) of the Commission's rules (47 CFR 1.4(b)(1)). Replies to an opposition must be filed within 10 days after the time for filing oppositions has expired.

Subject: In the Matter of Telecommunications Relay Services and Speech-to-Speech Services for Individuals With Hearing and Speech Disabilities (CC Docket No. 98-67).

Number of Petitions Filed: 2.

Subject: In the Matter of Amendment of Part 15 of the Commission's Rules Regarding Spread Spectrum Devices (ET Docket No. 99-231).

Number of Petitions Filed: 1.

Subject: In the Matter of Amendment of Eligibility Requirements in Part 78 Regarding 12 GHz Cable Television Relay Service (CS Docket No. 99-250, RM-9257).

Number of Petitions Filed: 1.

Marlene H. Dortch,
Secretary.

[FR Doc. 02-21213 Filed 8-20-02; 8:45 am]

BILLING CODE 6712-01-M